Executive Order 14296 of May 9, 2025

Keeping Promises to Veterans and Establishing a National Center for Warrior Independence

By the authority vested in me as President by the Constitution and the laws of the United States of America, it is hereby ordered:

Section 1. Purpose and Policy. Our Nation's security, prosperity, and freedom would not be possible without our veterans. Many service members paid the ultimate sacrifice. Many others bear visible and invisible wounds from their service. Too many veterans are homeless in America. Each veteran deserves our gratitude.

Yet the Federal Government has not always treated veterans like the heroes they are. During the previous administration, unaccountable bureaucrats treated them shamefully, failing veterans when they needed help most and betraying the taxpayers who rightfully expect better.

The story of the West Los Angeles Veterans Affairs (VA) Medical Center is indicative of this failure. More than one hundred years ago, Senator John Percival Jones and Arcadia Bandini de Stearns Baker generously donated hundreds of acres of land that they owned in West Los Angeles on the condition that it be used to house disabled veterans. The campus once featured a chapel, billiard hall, 1,000-seat theater, and housed about 6,000 veterans, but the Federal Government has since allowed this crown jewel of veteran care to deteriorate over the last few decades.

The Department of Veterans Affairs (Department) leased parts of the property to a private school, private companies, and the baseball team of the University of California, Los Angeles, sometimes at significantly below-market prices. As of 2024, there were approximately 3,000 homeless veterans in Los Angeles, more than in any other city in the country and accounting for about 10 percent of all of America's homeless veterans. Many of these heroes live in squalor in Los Angeles's infamous “skid row.”

During my first term, I signed legislation to increase accountability and expand benefits and choices for veterans in accessing care, and my second term will build on those efforts. Accountability will return to the Department. Veterans around the Nation will have more choices in care, benefits, and services. The VA campus in West Los Angeles will become the National Center for Warrior Independence with facilities and resources to help our veterans earn back their self-sufficiency.

Sec. 2. Establishing the National Center for Warrior Independence. The Secretary of Veterans Affairs (Secretary) shall take all appropriate action to:

(a) designate a National Center for Warrior Independence on the West Los Angeles VA Campus in which homeless veterans in the Los Angeles metropolitan area and around the Nation can seek and receive the care, benefits, and services to which they are entitled;

(b) work with other municipalities and VA facilities to ensure that homeless veterans outside the Los Angeles metropolitan area who want to avail themselves of the National Center for Warrior Independence are provided the means to do so;

(c) in coordination with the Secretary of Health and Human Services, the Secretary of Housing and Urban Development, and the heads of any other relevant executive departments or agencies, ensure that funds that may have been spent on housing or other services for illegal aliens are redirected to construct, establish, and maintain this National Center for Warrior Independence;

(d) work to restore self-sufficiency and the warrior ethos among homeless veterans through any guidance, requirements, or services needed to ensure that homeless veterans can access housing, receive substance abuse or addiction treatment, and return to productive work and community engagement; and

(e) within 120 days of the date of this order, present an action plan to the President, through the Assistant to the President for Domestic Policy, to meet these directives and restore the capacity to house up to 6,000 homeless veterans at the National Center for Warrior Independence by January 1, 2028.

Sec. 3. Voucher Program. The Secretary of Housing and Urban Development shall, in consultation with the Secretary, use vouchers to support homeless veterans in the Los Angeles metropolitan area and around the Nation with respect to this effort.

Sec. 4. Restoring Accountability at the Department of Veterans Affairs. The Secretary shall take the following steps to restore accountability and excellent service at the Department:

(a) take appropriate action against individuals who have committed misconduct, making full use of and in accordance with the Department of Veterans Affairs Accountability and Whistleblower Protection Act of 2017 (Public Law 115-41); and

(b) investigate and take steps to rectify the previous administration's decision to rehire and reinstate back pay for employees previously fired for misconduct and direct such savings back toward care, benefits, and services for veterans, in accordance with all applicable laws.

Sec. 5. Providing Choices and Excellence to Veterans. The Secretary shall take steps to increase the excellence of and options for care, benefits, and services for veterans including:

(a) within 60 days of the date of this order, submitting a report to the President, through the Assistant to the President for Domestic Policy, with a plan to reduce wait times for Veterans Health Administration appointments that explores options like expanding office hours, offering weekend appointments, and increasing the use of virtual healthcare options;

(b) within 30 days of the date of this order, directing a feasibility study at the Manchester VA Medical Center and within 180 days of this order, submitting to the President, through the Assistant to the President for Domestic Policy, an action plan to expand services to support a full-service medical center in New Hampshire so that it is no longer the only State in the contiguous United States without such a center; and

(c) in consultation with the Secretary of Defense, the Director of the Office of Management and Budget, and the Assistant to the President for Domestic Policy, developing a strategy to improve the delivery and quality of the Department's healthcare services in a more efficient and effective manner to support veterans; the strategy shall initially prioritize implementation of actions to reduce access times and improve service delivery, to include options for offering treatment to veterans at select military treatment facilities and military beneficiaries at VA facilities with appropriate reimbursement.

Sec. 6. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The Department of Veterans Affairs shall provide funding for this order's publication in the Federal Register.

THE WHITE HOUSE,

May 9, 2025.

[FR Doc. 2025-08683

Filed 5-13-25; 8:45 am]

Billing code 8320-01-P